DEPARTMENT OF DEFENSE

Office of the Secretary

Charter Amendment of Department of Defense Federal Advisory Committees

AGENCY: Department of Defense.

ACTION: Amendment of Federal Advisory Committee.

SUMMARY: The Department of Defense (DoD) is publishing this notice to announce that it is amending the charter for the Defense Innovation Advisory Board.

FOR FURTHER INFORMATION CONTACT: Jim Freeman, Advisory Committee Management Officer for the Department of Defense, 703-692-5952.

SUPPLEMENTARY INFORMATION: This committee's charter is being amended in accordance with the Federal Advisory Committee Act (FACA) of 1972 (5 U.S.C., Appendix, as amended) and 41 CFR 102-3.50(d). The amended charter and contact information for the Designated Federal Officer (DFO) can be obtained at http://www.facadatabase.gov/.

The DoD is amending the charter for the Defense Innovation Advisory Board previously announced on page 18842 of the Federal Register, Volume 81, Number 63, dated April 1, 2016. Specifically, the DoD is changing the name of the Defense Innovation Advisory Board to the Defense Innovation Board (“the Board”), and increasing the Board's total membership. The membership for the Defense Innovation Advisory Board was limited to no more than 15 members, but the DoD is increasing the membership for the Board to no more than 20 members. In addition, the DoD is appointing three, non-voting ex-officio members to the Board, and their inclusion will not count toward the total membership. The three, non-voting ex-officio members are the chairs of the Defense Business Board, the Defense Policy Board, and the Defense Science Board. All other aspects of the Defense Innovation Advisory Board's charter, as previously announced, will apply to the Board.

Dated: July 26, 2016.
Aaron Siegel,
Alternate OSD Federal Register Liaison Officer, Department of Defense.

[FR Doc. 2016-18072 Filed 7-29-16; 8:45 am]

BILLING CODE 5001-06-P